GENERAL SERVICES ADMINISTRATION

Office of Communications; Revision of SF 820, Review of Federal Advisory Committees

AGENCY: Office of Communications, GSA.

ACTION: Notice.

SUMMARY: The General Services Administration (GSA), Office of Governmentwide Policy revised the SF 820, Review of Federal Advisory Committees to remove unneeded information and collect additional data that will improve the operation of the program. You can access this form from the following web site: http://www.facadatabase.gov.

FOR FURTHER INFORMATION CONTACT: Charles Howton, General Services Administration, (202) 273-3561.

DATES: Effective February 13, 2002.

Dated: February 4, 2002.
Barbara M. Williams,
Deputy Standard and Optional Forms Management Officer, General services Administration.

[FR Doc. 02-3448 Filed 2-02-02; 8:45 am]

BILLING CODE 6820-34-M